DEPARTMENT OF ENERGY

Federal Energy Regulatory Commission

Combined Notice of Filings #2

Take notice that the Commission received the following electric corporate filings:

Docket Numbers: EC12-108-000.

Applicants: Michigan Electric Transmission Company, LLC.

Description: Application pursuant to Section 203 of Michigan Electric Transmission Company, LLC.

Filed Date: 6/5/12.

Accession Number: 20120605-5071.

Comments Due: 5 p.m. ET 6/26/12.

Take notice that the Commission received the following exempt wholesale generator filings:

Docket Numbers: EG12-74-000.

Applicants: High Majestic Interconnection Services, LLC.

Description: Notice of Self-Certification of Exempt Wholesale Generator Status of High Majestic Interconnection Services, LLC.

Filed Date: 6/5/12.

Accession Number: 20120605-5090.

Comments Due: 5 p.m. ET 6/26/12.

Take notice that the Commission received the following electric rate filings:

Docket Numbers: ER11-3859-004; ER11-3863-003; ER11-3861-003; ER11-3864-004; ER11-3866-004; ER12-192-002; ER11-3867-004; ER11-3857-004.

Applicants: Milford Power Company, LLC, MASSPOWER, Liberty Electric Power, LLC, Lake Road Generating Company, L.P., Empire Generating Co, LLC, ECP Energy I, LLC, EquiPower Resources Management, LLC, Dighton Power, LLC.

Description: Notice of Change in Status of the ECP MBR Sellers.

Filed Date: 6/5/12.

Accession Number: 20120605-5068.

Comments Due: 5 p.m. ET 6/26/12.

Docket Numbers: ER12-1823-000.

Applicants: Southern California Edison Company.

Description: 2009-2010 CWIP ROE Refund Report to be effective N/A.

Filed Date: 6/5/12.

Accession Number: 20120605-5005.

Comments Due: 5 p.m. ET 6/26/12.

Docket Numbers: ER12-1942-000.

Applicants: Midwest Independent Transmission System Operator, Inc.

Description: J122 Filing to be effective 6/6/2012.

Filed Date: 6/5/12.

Accession Number: 20120605-5033.

Comments Due: 5 p.m. ET 6/26/12.

Docket Numbers: ER12-1943-000.

Applicants: DeWind Novus, LLC.

Description: Notice of Succession Filing to be effective 5/4/2012.

Filed Date: 6/5/12.

Accession Number: 20120605-5054.

Comments Due: 5 p.m. ET 6/26/12.

Docket Numbers: ER12-1944-000.

Applicants: Duke Energy Ohio, Inc.

Description: Duke Energy Ohio, Inc. submits tariff filing per 35.15: Cancel Reactive to be effective 12/31/9998.

Filed Date: 6/5/12.

Accession Number: 20120605-5082.

Comments Due: 5 p.m. ET 6/26/12.

Docket Numbers: ER12-1945-000.

Applicants: AEP Texas North Company.

Description: AEP Texas North Company submits tariff filing per 35.13(a)(2)(iii: TNC-Texas New Mexico Power Amd. #3 to IA to be effective 5/7/2012.

Filed Date: 6/5/12.

Accession Number: 20120605-5083.

Comments Due: 5 p.m. ET 6/26/12.

Docket Numbers: ER12-1946-000.

Applicants: Duke Energy Beckjord, LLC.

Description: Duke Energy Beckjord, LLC submits tariff filing per 35.1: MBR Filing to be effective 10/1/2012.

Filed Date: 6/5/12.

Accession Number: 20120605-5096.

Comments Due: 5 p.m. ET 6/26/12.

Docket Numbers: ER12-1947-000.

Applicants: Duke Energy Beckjord, LLC.

Description: Duke Energy Beckjord, LLC submits tariff filing per 35.13(a)(2)(iii: Reactive Filing to be effective 12/31/9998.

Filed Date: 6/5/12.

Accession Number: 20120605-5098.

Comments Due: 5 p.m. ET 6/26/12.

Docket Numbers: ER12-1948-000.

Applicants: Duke Energy Conesville, LLC.

Description: Duke Energy Conesville, submits tariff filing per 35.1: MBR Filing to be effective 10/1/2012.

Filed Date: 6/5/12.

Accession Number: 20120605-5099.

Comments Due: 5 p.m. ET 6/26/12.

Docket Numbers: ER12-1949-000.

Applicants: Duke Energy Conesville, LLC.

Description: Duke Energy Conesville, submits tariff filing per 35.13(a)(2)(iii: Reactive Filing to be effective 12/31/9998.

Filed Date: 6/5/12.

Accession Number: 20120605-5100.

Comments Due: 5 p.m. ET 6/26/12.

Docket Numbers: ER12-1950-000.

Applicants: Entergy Texas, Inc.

Description: Entergy Texas, Inc. submits tariff filing per 35.13(a)(2)(iii: ETEC Partial Req Agrmt #199 to be effective 8/1/2012.

Filed Date: 6/5/12.

Accession Number: 20120605-5104.

Comments Due: 5 p.m. ET 6/26/12.

Docket Numbers: ER12-1951-000.

Applicants: Duke Energy Dicks Creek, LLC.

Description: Duke Energy Dicks Creek, LLC submits tariff filing per 35.1: MBR Filing to be effective 10/1/2012.

Filed Date: 6/5/12.

Accession Number: 20120605-5106.

Comments Due: 5 p.m. ET 6/26/12.

Docket Numbers: ER12-1952-000.

Applicants: Entergy Texas, Inc.

Description: Entergy Texas, Inc. submits tariff filing per 35.13(a)(2)(iii: ETEC Coordination Agrmt #200 to be effective 8/1/2012.

Filed Date: 6/5/12.

Accession Number: 20120605-5107.

Comments Due: 5 p.m. ET 6/26/12.

Docket Numbers: ER12-1953-000.

Applicants: Duke Energy Dicks Creek, LLC.

Description: Duke Energy Dicks Creek, LLC submits tariff filing per 35.13(a)(2)(iii: Reactive Filing to be effective 12/31/9998.

Filed Date: 6/5/12.

Accession Number: 20120605-5108.

Comments Due: 5 p.m. ET 6/26/12.

Docket Numbers: ER12-1954-000.

Applicants: Duke Energy Killen, LLC.

Description: Duke Energy Killen, LLC submits tariff filing per 35.1: MBR Filing to be effective 10/2/2012.

Filed Date: 6/5/12.

Accession Number: 20120605-5111.

Comments Due: 5 p.m. ET 6/26/12.

Docket Numbers: ER12-1955-000.

Applicants: Duke Energy Killen, LLC.

Description: Duke Energy Killen, LLC submits tariff filing per 35.13(a)(2)(iii: Reactive Filing to be effective 12/31/9998.

Filed Date: 6/5/12.

Accession Number: 20120605-5112.

Comments Due: 5 p.m. ET 6/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 5, 2012.
Nathaniel J. Davis, Sr.,
Deputy Secretary.

[FR Doc. 2012-14201 Filed 6-11-12; 8:45 am]

BILLING CODE 6717-01-P